FEDERAL RESERVE SYSTEM

12 CFR Part 225

[Regulation Y; Docket No. R-1146]

Bank Holding Companies and Change in Bank Control; Correction

AGENCY: Board of Governors of the Federal Reserve System (Board).

ACTION: Final rule; Correction.

SUMMARY: On July 3, 2003, the Board published in the Federal Register a final rule amending Regulation Y. The rule permits bank holding companies to take and make delivery of title to commodities underlying commodity derivative contracts on an instantaneous, pass-through basis and to enter into certain commodity derivative contracts that do not require cash settlement or specifically provide for assignment, termination, or offset prior to delivery. This document corrects a footnote in the final rule.

DATES: The correction is effective August 4, 2003 (i.e., the effective date of the final rule).

FOR FURTHER INFORMATION CONTACT: Mark E. Van Der Weide, Counsel (202/452-2263), or Andrew S. Baer, Counsel (202/452-2246), Legal Division. For users of Telecommunications Device for the Deaf (TDD) only, contact (202) 263-4869.

SUPPLEMENTARY INFORMATION: This document corrects the footnote in § 225.28 List of permissible nonbanking activities. In the final rule, FR Doc. 03-16835 published on July 3, 2003 (68 FR 39807), make the following corrections:

§ 225.28 [Corrected]

On page 39810, in the second column, remove the references to footnote 12 in the rule text and footnote and replace them with references to footnote 9.

By order of the Board of Governors of the Federal Reserve System, July 10, 2003.
Jennifer J. Johnson,
Secretary of the Board.

[FR Doc. 03-17931 Filed 7-15-03; 8:45 am]

BILLING CODE 6210-01-P